NATIONAL AERONAUTICS AND SPACE ADMINISTRATION

[Notice: (16-077)]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council (NAC). This meeting will be held for the purpose of soliciting, from the aeronautics community and other persons, research and technical information relevant to program planning. This Committee reports to the NAC.

DATES: Monday, November 14, 2016, 2:00 p.m.-6:00 p.m., and Tuesday, November 15, 2016, 9:45 a.m. to 3:00 p.m., Local Time.

ADDRESSES: NASA Ames Conference Center, Building 3, 500 Severyns Avenue, Moffett Field, CA 94035-0001.

FOR FURTHER INFORMATION CONTACT: Ms. Irma Rodriguez, Executive Secretary for the NAC Aeronautics Committee, NASA Headquarters, Washington, DC 20546, phone number (202) 358-0984, or irma.c.rodriguez@nasa.gov.

SUPPLEMENTARY INFORMATION: The meeting will be open to the public up to the capacity of the room. Any person interested in participating in the meeting by WebEx and telephone should contact Ms. Irma Rodriguez at (202) 358-0984 for the web link, toll-free number and passcode. The agenda for the meeting includes the following topics:

• Computational Fluid Dynamics (CFD) Vision 2030 Implementation Plan

• Vision and Strategic Planning for Advanced Aviation Operations

• Autonomy Roadmap and Project Planning

Attendees will be requested to sign a register and to comply with NASA security requirements, including the presentation of a valid picture ID before receiving access to NASA Ames Research Center. All attendees must state that they are attending the NASA Advisory Council Aeronautics Committee meeting in the NASA Ames Conference Center in Building 3. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Minnesota, Missouri, and Washington. Foreign nationals attending this meeting will be required to provide a copy of their passport and visa in addition to providing the following information no less than 8 working days prior to the meeting: Full name; gender; date/place of birth; citizenship; passport information (number, country, telephone); visa information (number, type, expiration date); employer affiliation information (name of institution, address. Country, telephone); title/position of attendee to Ms. Irma Rodriguez, NAC Aeronautics Committee Executive Secretary, fax (202) 358-4060. U.S. Citizens and Permanent Residents (green card holders) will need to show a valid, officially-issued picture identification at the gate to enter the NASA Research Park. For questions, please call Ms Irma Rodriguez at (202) 358-0984. It is imperative that these meetings be held on this date to accommodate the scheduling priorities of the key participants.

Patricia D. Rausch,
Advisory Committee Management Officer, National Aeronautics and Space Administration.

[FR Doc. 2016-26145 Filed 10-28-16; 8:45 am]

BILLING CODE 7510-13-P